DEPARTMENT OF COMMERCE

Foreign-Trade Zones Board

[B-60-2018]

Foreign-Trade Zone 64—Jacksonville, Florida; Application for Reorganization (Expansion of Service Area) Under Alternative Site Framework

An application has been submitted to the Foreign-Trade Zones (FTZ) Board by the Jacksonville Port Authority, grantee of Foreign-Trade Zone 64, requesting authority to reorganize the zone to expand its service area under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on September 27, 2018.

FTZ 64 was approved by the Board on December 29, 1980 (Board Order 170, 46 FR 1330, January 6, 1981), reorganized under the ASF on May 6, 2011 (Board Order 1759, 76 FR 28418, May 17, 2011), and the service area was expanded under the ASF on July 5, 2012 (Board Order 1840, 77 FR 41374, July 13, 2012). The zone currently has a service area that includes Baker, Bradford, Clay, Columbia, Duval, Nassau, Putnam and St. Johns Counties, Florida.

The applicant is now requesting authority to expand the service area of the zone to include Flagler County, as described in the application. If approved, the grantee would be able to serve sites throughout the expanded service area based on companies' needs for FTZ designation. The application indicates that the proposed expanded service area is adjacent to the Jacksonville Customs and Border Protection Port of Entry.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary at the address below. The closing period for their receipt is December 3, 2018. Rebuttal comments in response to material submitted during the foregoing period may be submitted during the subsequent 15-day period to December 18, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Qahira El-Amin at Qahira.El-Amin@trade.gov or (202) 482-5928.

Dated: September 27, 2018.
Andrew McGilvray,
Executive Secretary.

[FR Doc. 2018-21615 Filed 10-3-18; 8:45 am]

BILLING CODE 3510-DS-P